NATIONAL TRANSPORTATION SAFETY BOARD

Sunshine Act Meetings

TIME AND DATE: 9:30am EDT, March 28, 2023.

PLACE: Virtual.

STATUS: The one item may be viewed by the public through webcast only.

MATTERS TO BE CONSIDERED:

69683 Highway Investigative Report—Multivehicle Collision Involving a Milk Tank Combination Vehicle and Stopped Traffic Queue, Phoenix, Arizona, June 9, 2021.

CONTACT PERSON FOR MORE INFORMATION: Candi Bing at (202) 590-8384 or by email at bingc@ntsb.gov.

Media Information Contact: Sarah Sulick by email at sarah.sulick@ntsb.gov or at (202) 314-6100.

This meeting will take place virtually. The public may view it through a live or archived webcast by accessing a link under “Upcoming Events” on the NTSB home page at www.ntsb.gov.

There may be changes to this event due to the evolving situation concerning the novel coronavirus (COVID-19). Schedule updates, including weather-related cancellations, are also available at www.ntsb.gov.

The National Transportation Safety Board is holding this meeting under the Government in the Sunshine Act, 5 U.S.C. 552(b).

Dated: Friday, March 3, 2023.
LaSean R. McCray,
Assistant Federal Register Liaison Officer.

[FR Doc. 2023-04766 Filed 3-3-23; 4:15 pm]

BILLING CODE 7533-01-P